DEPARTMENT OF ENERGY

Federal Energy Regulatory Commission

[Docket Nos. CP15-554-009 and CP15-555-007]

Atlantic Coast Pipeline, LLC, Eastern Gas Transmission and Storage, Inc.; Notice of Availability of the Draft Supplemental Environmental Impact Statement for the Proposed Atlantic Coast Pipeline Restoration Project and Supply Header Restoration Project

The staff of the Federal Energy Regulatory Commission (FERC or Commission) has prepared a draft supplemental environmental impact statement (EIS) for the Atlantic Coast Pipeline, LLC's (Atlantic) Atlantic Coast Pipeline Restoration Project, and Eastern Gas Transmission and Storage, Inc.'s (EGTS) Supply Header Restoration Project (Restoration Projects), in the above-referenced dockets. Atlantic and EGTS request authorization to implement the Restoration Projects in order to stabilize lands affected by previous construction efforts for the Atlantic Coast Pipeline and Supply Header Project, respectively, and to facilitate cessation of all project-related activities. Implementation of the plans is proposed because Atlantic and EGTS have cancelled their respective projects and do not intend to complete them.

The draft supplemental EIS assesses the potential impacts that would result from the Restoration Projects, in accordance with the requirements of the National Environmental Policy Act (NEPA).¹ The FERC staff concludes that the proposed actions, with the additional mitigation measures recommended in the supplemental EIS, would continue to avoid or reduce impacts to less than significant levels with the exception of climate change impacts, which FERC staff is unable to determine significance.

¹ The construction and operation impacts of the then-proposed Atlantic Coast Pipeline and Supply Header Project were evaluated in a final EIS, which was issued by the Commission on July 21, 2017, in Docket Nos. CP15-554-00, CP15-554-001; and CP15-555-000.

The U.S. Department of Agriculture's Forest Service and the U.S. Department of the Interior's Fish and Wildlife Service participated as cooperating agencies in the preparation of the draft supplemental EIS. Cooperating agencies have jurisdiction by law or special expertise with respect to resources potentially affected by the proposal and participate in the NEPA analysis.

The draft supplemental EIS addresses the potential environmental effects of the following activities:

• Atlantic proposes to leave all installed pipeline in place (approximately 31.4 miles of the pipeline right-of-way), restore lands that were cleared and graded (approximately 82.7 miles of the pipeline right-of-way), and leave felled trees in place in areas where trees have not yet been cleared (approximately 25.2 miles of the pipeline right-of-way). For aboveground facilities, Atlantic proposes to restore the sites and manage the disposition of the materials and land through an investment recovery process. Workspace for these activities would occur in West Virginia, Virginia, and North Carolina.

• EGTS proposes to leave all installed pipeline in place (approximately 11.7 miles), leave approximately 0.13 mile of felled trees in place, and complete final restoration of approximately 9 miles of the pipeline right-of-way that EGTS previously cleared and/or graded. EGTS proposes to stabilize all aboveground facility sites and prepare assets for long term preservation. Workspace for these activities would occur in Pennsylvania and West Virginia.

The Commission mailed a copy of the Notice of Availability for the draft supplemental EIS to federal, state, and local government representatives and agencies; elected officials; environmental and public interest groups; Native American tribes; potentially affected landowners and other interested individuals and groups; and newspapers and libraries in the project area. The draft supplemental EIS is only available in electronic format. It may be viewed and downloaded from the FERC's website (www.ferc.gov), on the Environmental Documents page (https://www.ferc.gov/industries-data/natural-gas/environment/environmental-documents). In addition, the final supplemental EIS may be accessed by using the eLibrary link on the FERC's website. Click on the eLibrary link (https://elibrary.ferc.gov/eLibrary/search), click on General Search, and enter the docket number in the “Docket Number” field, (i.e., CP15-554 or CP15-555). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft supplemental EIS may do so. Your comments should focus on the EIS's disclosure and discussion of potential environmental effects, reasonable alternatives, and measures to avoid or lessen environmental impacts. To ensure consideration of your comments on the proposal in the final supplemental EIS, it is important that the Commission receive your comments on or before 5:00 p.m. Eastern Time on September 13, 2021.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Your written comments must reference the Project docket number CP15-554-009 and/or CP15-555-007. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the proposals is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview.

Dated: July 23, 2021.
Debbie-Anne A. Reese,
Deputy Secretary.

[FR Doc. 2021-16164 Filed 7-28-21; 8:45 am]

BILLING CODE 6717-01-P